MEDICARE PAYMENT ADVISORY COMMISSION

Commission Meeting

AGENCY: Medicare Payment Advisory Commission.

ACTION: Notice of meeting.

SUMMARY: The Commission will hold its next public meeting on Thursday, October 19, 2000, and Friday, October 20, 2000, at the Ronald Reagan Building, International Trade Center, 1300 Pennsylvania Avenue, NW., Washington, DC. The meeting is tentatively scheduled to begin at 10 a.m. to October 19, and at 9 a.m. on October 20.

Topics for discussion include: Issues in risk-adjusting payments to Medicare+Choice plans; Medicare MSAs; meeting Medicare+Choice program goals; proposed work plan for regulatory burden study; post-surgical recovery care centers; developing input price indexes for all health care settings; ESRD payment issues; issues in post-acute care, including case-mix changes in skilled nursing facilities, payment policy for speciality psychiatric facilities, and the feasibility of developing clinical indicators for evaluating use; and options to reduce beneficiary coinsurance for hospital outpatient department services.

Agendas will be mailed on October 11, 2000. The final agenda will be available on the Commission's website (www.MedPAC.gov).

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 00-25985 Filed 10-10-00; 8:45 am]

BILLING CODE 6820-BW-M